DEPARTMENT OF THE INTERIOR

National Park Service

[NPS-WASO-NAGPRA-NPS0030209; PPWOCRADN0-PCU00RP14.R50000]

Notice of Inventory Completion: Connecticut State Museum of Natural History, University of Connecticut, Storrs, CT

AGENCY: National Park Service, Interior.

ACTION: Notice.

SUMMARY: The Connecticut State Museum of Natural History, University of Connecticut has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Connecticut State Museum of Natural History, University of Connecticut. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Connecticut State Museum of Natural History, University of Connecticut at the address in this notice by June 29, 2020.

ADDRESSES: Dr. Jacqueline Veninger-Robert, NAGPRA Coordinator, University of Connecticut, 354 Mansfield Road, Unit 1176, Storrs, CT 06269-1176, telephone (860) 486-6953, email jacqueline.veninger@uconn.edu.

SUPPLEMENTARY INFORMATION: Notice is here given in accordance with the Native American Graves Protection and Repatriation Act (NAGPRA), 25 U.S.C. 3003, of the completion of an inventory of human remains and associated funerary objects under the control of the Connecticut State Museum of Natural History, University of Connecticut, Storrs, CT. The human remains and associated funerary objects were removed from the village and burial site of Khustenete, Curry County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Connecticut State Museum of Natural History, University of Connecticut professional staff in consultation with representatives of the Confederated Tribes of Siletz Indians of Oregon (previously listed as Confederated Tribes of the Siletz Reservation); Confederated Tribes of the Coos, Lower Umpqua and Siuslaw Indians; Confederated Tribes of the Grand Ronde Community of Oregon; Coquille Indian Tribe (previously listed as Coquille Tribe of Oregon); Elk Valley Rancheria, California; and the Tolowa Dee-ni' Nation (previously listed as Smith River Rancheria, California)(hereafter referred to as “The Consulted Tribes”).

History and Description of the Remains

From 1942-1955, human remains representing, at minimum, 11 individuals were removed from Khustenete, an Athabaskan village and burial site in Curry County, OR (site 35CU157). Khustenete was excavated by physical anthropologist William S. Laughlin and avocational archeologist W.T. Edmundson. At the time of removal, the site was located within the private property of W.W. Ostrander. Today, it is within in the bounds of Samuel H. Broadman State Park.

Laughlin was a professor in the anthropology department at the University of Connecticut (1969-1999). Earlier, he had served on the faculty of the University of Oregon (1949-1955) and the University of Wisconsin (1955-1969). Laughlin's correspondence and journals—archived at the University of Alaska and the University of Oregon—state that analysis of the Khustenete collection, which includes human remains and artifacts not under the control of the University of Connecticut, were examined at Harvard University (where Laughlin received his doctorate in 1949) and the University of Oregon. The 11 individuals and associated funerary objects in this notice were found in Laughlin's home following his death in 2001, and were donated to the Connecticut State Museum of Natural History, University of Connecticut in 2014 by Laughlin's family.

Skeletal analysis of the human remains at the University of Connecticut was undertaken by Doug Owsley in 2015, during a visit to the University. Inventory numbers identifying the individuals are those assigned by Laughlin and Edmundson. Of the 11 individuals identified by Owsley, nine are thought to be female, one is male, and one is of undetermined sex. Age analysis suggests the human remains belong to one child, one adolescent, five young adults, one adult, two older adults, and one of undetermined age. Three of the individuals were conserved with funerary objects. The four associated funerary objects include one lot of pine nut shell beads, one shell, one bone tool, and one decayed wood fragment thought to be cedar wood planking that lined a grave.

Khustenete was initially excavated in 1873 by Paul Schumacher, a member of the USGS survey of the northwest Pacific coast. Schumacher's description of the burials indicates that they were of post-contact date due to the presence of European trade goods. Conversely, Laughlin and Edmundson believed the burials they excavated date to the pre-contact era, although they did not provide more detailed information regarding specific dates or archeological/cultural periods.

While subsequent radiocarbon dating of the site has indicated a late prehistoric/historic period, 450 +/- 70 and 320 +/- 60 RYBP, the samples were taken from a disturbed context. Nonetheless, Khustenete probably was a multi-period occupation site.

Khustenete was excavated intermittently on the property of W. W. Ostrander, from 1942 to 1955. During these excavations, a total of 37 distinguishable burials—but probably more—were documented. Fifteen of those burials were of infants (most of the infant burials were not disinterred). Documentation of the burials and record keeping was not consistent.

Sites along the coasts and river valleys of southwestern Oregon and northwestern California lie within the current and historically documented territory of the Athabaskan peoples of the Pacific Northwest (Neilson 1927; Berreman 1937; Swanton 1952). Historical documents, treaties, geopolitical distribution, geographical location, archeological, anthropological, and biological data, oral histories, and linguistics show that the Khustenete site is ancestral to the Confederated Tribes of Siletz Indians of Oregon (previously listed as Confederated Tribes of the Siletz Reservation); Elk Valley Rancheria, California; and the Tolowa Dee-ni' Nation (previously listed as Smith River Rancheria, California).

Determinations Made by the Connecticut State Museum of Natural History, University of Connecticut

Officials of the Connecticut State Museum of Natural History, University of Connecticut have determined that:

• Pursuant to 25 U.S.C. 3001(9), the human remains described in this notice represent the physical remains of 11 individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Confederated Tribes of Siletz Indians of Oregon (previously listed as Confederated Tribes of the Siletz Reservation); Elk Valley Rancheria, California; and the Tolowa Dee-ni' Nation (previously listed as Smith River Rancheria, California)(hereafter referred to as “The Tribes”).

Additional Requestors and Disposition

Lineal descendants or representatives of any Indian Tribe or Native Hawaiian organization not identified in this notice that wish to request transfer of control of these human remains and associated funerary objects should submit a written request with information in support of the request to Dr. Jacqueline Veninger-Robert, NAGPRA Coordinator, University of Connecticut, 354 Mansfield Road, Unit 1176, Storrs, CT 06269-1176, telephone (860) 486-6953, email jacqueline.veninger@uconn.edu, by June 29, 2020. After that date, if no additional requestors have come forward, transfer of control of the human remains and associated funerary objects to The Tribes may proceed.

The Connecticut State Museum of Natural History, University of Connecticut is responsible for notifying The Consulted Tribes that this notice has been published.

Dated: April 20, 2020.
Melanie O'Brien,
Manager, National NAGPRA Program.

[FR Doc. 2020-11561 Filed 5-28-20; 8:45 am]

BILLING CODE 4312-52-P